DEPARTMENT OF HEALTH AND HUMAN SERVICES

Administration for Children and Families

Proposed Information Collection Activity; Comment Request

Title: National Survey of Child and Adolescent Well-Being Second Cohort (NSCAW II).

OMB No.: 0970-0202.

Description: The Department of Health and Human Services (HHS) intends to collect follow-up data on a sample of children and families for the National Survey of Child and Adolescent WellBeing (NSCAW). The NSCAW was authorized under Section 427 of the Personal Responsibility and Work Opportunities Reconciliation Act of 1996. The NSCAW is the only source of nationally representative, firsthand information about the functioning and well-being, service needs, and service utilization of children and families who come to the attention of the child welfare system. Information is collected about children's cognitive, social, emotional, behavioral, and adaptive functioning, as well as family and community factors that are likely to influence their functioning. Family service needs and service utilization also are addressed in the data collection.

Selection of the current NSCAW sample and baseline data collection began in 2007 with a final anticipated sample size of 5,700 children. The proposed data collection will allow for follow-up of this sample 18 months post-baseline, and will follow the same format as that used in the baseline round and will employ, with only modest revisions, the same instruments that were used in the previous round. Data from NSCAW are made available to the research community through licensing arrangements from the National Data Archive on Child Abuse and Neglect at Cornell University.

Respondents: Children and their associated permanent or foster caregivers, caseworkers, and teachers.

Annual Burden Estimates
Instrument | Number of respondents | Number of responses per respondent | Average burden hours per response | Total burden hours
Child Interview | 1,520 | 1 | 1.33 | 2,022
Caregiver Interview | 1,520 | 1 | 1.6 | 2,432
Caseworker Interview | 355 | 1 | 1 | 355
Teacher Questionnaire | 907 | 1 | .50 | 454

Estimated Total Annual Burden Hours: 5,263.

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Planning, Research and Evaluation, 370 L'Enfant Promenade, SW., Washington, DC 20447, Attn: OPRE Reports Clearance Officer. E-mail address: OPREinfocollection@acf.hhs.gov. All requests should be identified by the title of the information collection.

The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: April 6, 2009.
Brendan C. Kelly,
Reports Clearance Officer.

[FR Doc. E9-8303 Filed 4-10-09; 8:45 am]

BILLING CODE 4184-01-M